DEPARTMENT OF THE INTERIOR

Bureau of Land Management

[LLNVB00000.L51100000.GN0000.LVEMF09CF200.241A; NVN-067930; 11-08807; MO#4500024151; TAS: 14X5017]

Notice of Availability of the Draft Environmental Impact Statement for the Phoenix Copper Leach Project, Lander County, NV

AGENCY: Bureau of Land Management, Interior.

ACTION: Notice of Availability.

SUMMARY: In accordance with the National Environmental Policy Act of 1969, as modified, the Bureau of Land Management (BLM), Nevada has prepared a Draft Environmental Impact Statement (EIS) for the Phoenix Copper Leach Project (Proposed Project) and by this notice is announcing the opening of the comment period.

DATES: To ensure comments will be considered, the BLM must receive written comments on the Phoenix Copper Leach Project Draft EIS within 45 days following the date the Environmental Protection Agency publishes its Notice of Availability in the Federal Register. The BLM will announce future meetings or hearings and any other public involvement activities at least 15 days in advance through public notices, media releases, and/or mailings.

ADDRESSES: You may submit comments related to the Phoenix Copper Leach Project Draft EIS by any of the following methods to the attention of Dave Davis:

• Fax: (775) 635-4034.

• Email: CU_Leach@blm.gov.

• Mail: Bureau of Land Management, 50 Bastian Road, Battle Mountain, NV 89820 Attn: Phoenix Project Manager.

Copies of the Phoenix Copper Leach Project Draft EIS are available in the Mount Lewis Field Office at the above address and on the Battle Mountain District's National Environmental Policy Act (NEPA) Web page at: http://www.blm.gov/nv/st/en/fo/battle_mountain_field/blm_information/national_environmental.html.

FOR FURTHER INFORMATION CONTACT: For further information contact Dave Davis, BLM Battle Mountain District, Phoenix Copper Leach Project Manager, telephone (775) 635-4150; address 50 Bastian Road, Battle Mountain, NV 89820; email CU_Leach@blm.gov. Persons who use a telecommunications device for the deaf (TDD) may call the Federal Information Relay Service (FIRS) at (800) 877-8339 to contact the above individual during normal business hours. The FIRS is available 24 hours a day, 7 days a week, to leave a message or question with the above individual. You will receive a reply during normal business hours.

SUPPLEMENTARY INFORMATION: Newmont Mining Corporation (Newmont) has submitted a proposed Amendment to the Plan of Operations for expansion and operation of the existing Phoenix Gold Mine to include leaching and beneficiation of copper oxide rock material that was previously permitted for disposal on waste rock facilities within the approved Phoenix Mine boundary. The Proposed Project would be located in north-central Nevada 12 miles southwest of Battle Mountain, Nevada, on private and public lands in Lander County. The proposed expansion would increase the surface disturbance of the existing mine area an additional 902 acres; 194 acres of public land and 708 acres of private land.

The Phoenix Copper Leach Project Draft EIS describes and analyzes the site-specific impacts for all affected resources. Three alternatives are analyzed: two action alternatives, the Proposed Action and the Reona Copper Heap Leach Facility (HLF) Elimination Alternative, and the No Action Alternative. Eleven other alternatives were considered then eliminated from further analysis and are discussed in the Draft EIS. Alternatives considered but eliminated from further analysis include: three alternative process options; three alternative plant design options; two alternative facility location options; one alternate pond cover design option; one alternate Phoenix heap leach pad configuration option; and the Borrow Area Elimination Alternative. Mitigation measures have been identified to minimize potential environmental impacts and to ensure that the Proposed Project would not result in undue or unnecessary degradation of public lands. In addition, the Draft EIS includes an analysis of cumulative impacts, including a comprehensive evaluation of potential impacts to Native American cultural values. The BLM's Preferred Alternative is the Proposed Action as modified by the proposed mitigation.

The Phoenix Copper Leach Project Preferred Alternative would consist of the following primary components: (1) Expansion of the existing project boundary; (2) development and operation of two copper HLFs; (3) construction of six new process ponds; (4) construction and operation of a copper solvent extraction/electro-winning facility; (5) designation of a new optional use area that could be developed as a copper HLF and borrow area; (6) establishment of a new clay borrow area; (7) development of new water monitoring wells; (8) construction of a new haul road, pipeline, and utility corridor; (9) development of a new production water well; and (10) conversion of six process ponds to evaporation ponds during reclamation. New surface disturbance associated with the Proposed Action totals 902 acres. The majority of the proposed facilities would occur in areas that previously have been approved for surface disturbance. Under the Proposed Action, approximately 158 million tons of copper ore would be mined for processing resulting in the production of approximately 245 million pounds of recoverable copper during the ore processing timeframe. Active mining and processing for the project would last approximately 24 years; overall closure and reclamation activities are anticipated to extend approximately 10 years beyond the operational phase. A minimum of 13 years of revegetation and reclamation monitoring are estimated following mine closure.

Under the Reona Copper HLF Elimination Alternative, the proposed Reona Copper HLF and associated infrastructure (e.g., solution pipelines between the proposed solvent extraction/electro-winning facility and the Reona Copper HLF and event pond) would not be developed. The 58 acres of proposed disturbance within the Reona heap leach pad area would continue to be utilized as a gold cyanide HLF, as permitted under the Phoenix Project Final Environmental Impact Statement (NV063-EIS00-28, 2002). The eight million ton of copper ore, planned for the Reona Copper HLF, would not be mined and processed by leaching. All other facilities would be the same as discussed for the Proposed Action.

The No Action Alternative would involve continuation of currently authorized gold mining, leaching, and milling operations at the Phoenix Mine in accordance with the Plan of Operations NVN-067930, as permitted under the Phoenix Project Record of Decision (November 28, 2003) and the other Federal and state permits. Under the No Action Alternative, the Proposed Project would not be constructed, and the currently classified waste rock that contains leach-grade copper would continue to be disposed of in one or more of the currently permitted waste rock facilities at the Phoenix Mine. Upon completion of currently permitted mining operations, the existing facilities identified and analyzed in the Phoenix Project Final EIS would be closed and reclaimed in accordance with current permits and applicable Federal and state closure and reclamation requirements.

On February 12, 2008, a Notice of Intent was published in the Federal Register (73 FR 8059-8060) inviting scoping comments on the Proposed Project. A public scoping meeting was held on February 27, 2008, in Battle Mountain, Nevada. The Draft EIS reflects input received from the public and other government agencies. Key issues identified during the scoping process include the following: (1) Potential contamination of surface water and groundwater from leakage or spillage of process solutions or reagents; (2) potential contamination of water in Willow Creek drainage during flood events from the operation of the proposed Phoenix Copper Leach Facility; (3) potential increases in local atmospheric particulates resulting from haul traffic and increased disturbance of soil surfaces; (4) potential atmospheric emissions of sulfuric acid and other process chemicals; (5) increased fragmentation and loss of wildlife habitat; (6) potential contribution to cumulative water quality issues within the Battle Mountain mining district; (7) permanent alternation of local landforms, visible over a considerable distance; (8) potential impacts to cultural resources and resources important to Native Americans; and (9) potential socioeconomic impacts. All comments that were received have been incorporated in a Scoping Summary Report and have been considered in preparation of this Draft EIS. During the development of the Draft EIS, the Environmental Protection Agency, Region IX, the Nevada Department of Environmental Protection, Bureau of Mining Regulation and Reclamation, and the Nevada Department of Wildlife identified the permanent closure of the copper leach facilities and disposal of chemical precipitates resulting from the drain-down of fluids during the closure process as an issue of concern.

In May 2008, the BLM sent letters to 12 tribes, bands, and interested parties notifying them of the Proposed Project and soliciting comments. Three of these groups (Battle Mountain Band, Yomba Shoshone, and Duckwater Shoshone) responded to the letters, and one, the Battle Mountain Band, requested a field tour of the study area. The field tour was held on August 29, 2008. Several concerns were expressed by the tribal participants, in particular, mining and its impacts on natural resources. None of the tribal members identified any specific sites or resources of concern within the Proposed Project area. The BLM continued consultation in February 2011, by sending letters to seven tribes, bands, and interested parties. No additional issues have been raised. Please note that public comments and information submitted including names, street addresses, and email addresses of persons who submit comments will be available for public review and disclosure at the above address during regular business hours (8 a.m. to 4 p.m.), Monday through Friday, except holidays.

Before including your address, phone number, email address, or other personal identifying information in your comment—you should be aware that your entire comment—including your personal identifying information, may be made publicly available at any time. While you can ask us in your comment to withhold your personal identifying information from public review, we cannot guarantee that we will be able to do so.

Authority: 40 CFR 1506.6, 40 CFR 1506.10

Christopher J. Cook,
Field Manager, Mount Lewis Field Office.

[FR Doc. 2011-27796 Filed 10-27-11; 8:45 am]

BILLING CODE 4310-HC-P